DEPARTMENT OF TRANSPORTATION

Federal Aviation Administration

14 CFR Part 39

[Docket No. 2000-NE-58-AD]

RIN 2120-AA64

Airworthiness Directives; Britax Sell Gmbh & Co. OHG Water Boilers, Coffee Makers, and Beverage Makers

AGENCY: Federal Aviation Administration, DOT.

ACTION: Notice of proposed rulemaking (NPRM).

SUMMARY: The Federal Aviation Administration (FAA) proposes to supersede an existing airworthiness directive (AD), applicable to Britax Sell Gmbh & Co. OHG water boilers, coffee makers, and beverage makers. That AD currently requires inspecting the wiring for indications of overheating or electrical arcing, and if indications are found, replacing the wiring. This proposal would require replacing the wiring on those water boilers, coffee makers, and beverage makers whether or not they show indications of overheating or electrical arcing. This proposal is prompted by revisions to the manufacturer's service bulletins. The actions specified by the proposed AD are intended to prevent a fire in the galley compartment due to inadequate crimping of the electrical terminal contact pins, which could result in smoke in the cockpit and cabin and loss of control of the airplane.

DATES: Comments must be received by August 6, 2002.

ADDRESSES: Submit comments in triplicate to the Federal Aviation Administration (FAA), New England Region, Office of the Regional Counsel, Attention: Rules Docket No. 2000-NE-58-AD, 12 New England Executive Park, Burlington, MA 01803-5299. Comments may also be sent via the Internet using the following address: “9-ane-adcomment@faa.gov”. Comments sent via the Internet must contain the docket number in the subject line. Comments may be inspected at this location between 8 a.m. and 4:30 p.m., Monday through Friday, except Federal holidays. The service information referenced in the proposed rule may be obtained from Britax Sell GmbH & Co. OHG, MPL Mr. H.D. Poggensee, P.O. Box 1161, 35721 Herborn Germany, telephone international code 49-2772-707-0; fax international code 49-2772-707-141. This information may be examined at the FAA, New England Region, Office of the Regional Counsel, 12 New England Executive Park, Burlington, MA.

FOR FURTHER INFORMATION CONTACT: Terry Fahr, Aerospace Engineer, Boston Aircraft Certification Office, FAA, Engine and Propeller Directorate, 12 New England Executive Park, Burlington, MA 01803-5299; telephone (781) 238-7155; fax (781) 238-7170.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NE-58-AD.” The postcard will be date stamped and returned to the commenter.

Availability of NPRM's

Any person may obtain a copy of this NPRM by submitting a request to the FAA, New England Region, Office of the Regional Counsel, Attention: Rules Docket No. 2000-NE-58-AD, 12 New England Executive Park, Burlington, MA 01803-5299.

Discussion

On May 17, 2001, the FAA issued AD 2001-10-13, Amendment 39-12239 (66 FR 29467, May 31, 2001), to require an inspection for discoloration or melting of the wires, and if discolored or melted, the replacement of wires on the temperature limiters installed on certain water boilers, coffee makers, and beverage makers with part numbers (P/N's) that are listed in this AD.

The Luftfahrt-Bundesamt (LBA), which is the airworthiness authority for Germany, notified the FAA that an unsafe condition may exist on Britax Sell Gmbh & Co. OHG water boilers, coffee makers, and beverage makers. The LBA informed the FAA that there have been 10 reports of discolored wires and two reports of partially melted wires. The crimping of the presently installed Faston Terminals P/N 3-520133-2 with blue nylon insulation may be insufficient for carrying the full electrical current flowing through that terminal. The insufficient crimping could cause an increased contact resistance in the terminal. The increased contact resistance could result in an increased terminal temperature, discoloration of the insulation, and a melting of the terminal insulation.

Since AD 2001-10-13 was issued, Britax Sell Gmbh & Co. OGH has issued revised service bulletins (SB's) that require replacing all affected wire harnesses, change the serial number effectivities, the modification kit P/N's, and a tank assembly P/N callout.

Manufacturer's Service Information

Britax Sell Gmbh & Co. OHG has issued SB's No E33-4-011SB, Revision 2, dated January 31, 2001; E33-4-012SB, Revision 1, dated November 20, 2000; and E33-4-015SB, Revision 1, dated November 15, 2000, that specify procedures for replacing the wiring on certain P/N water boilers, coffee makers, and beverage makers. The LBA classified these SB's as mandatory and issued AD 2000-379, dated November 13, 2000, in order to assure the airworthiness of these Britax Sell Gmbh & Co. OHG water boilers, coffee makers, and beverage makers in the Federal Republic of Germany.

Bilateral Agreement Information

These appliances are manufactured in the Federal Republic of Germany, and are type certificated for operation in the United States under the provisions of § 21.29 of the Federal Aviation Regulations (14 CFR 21.29) and the applicable bilateral airworthiness agreement. Pursuant to this bilateral airworthiness agreement, the LBA has kept the FAA informed of the situation described above. The FAA has examined the findings of the LBA, reviewed all available information, and determined that AD action is necessary for products of this type design that are certificated for operation in the United States.

Proposed Requirements of This AD

Since an unsafe condition has been identified that is likely to exist or develop on other Britax Sell Gmbh & Co. OHG water boilers, coffee makers, and beverage makers of the same type design that are used on airplanes registered in the United States, the proposed AD would require replacing the wiring on certain P/N water boilers, coffee makers, and beverage makers during the next repair, maintenance, or descaling of the product, during the next airplane check that allows for replacing the wiring, or within one calendar year after the effective date of the proposed AD, whichever occurs earlier. The actions would be required to be done in accordance with the service bulletins described previously.

Economic Analysis

The FAA estimates that 175 products installed on airplanes of U.S. registry would be affected by this proposed AD. The FAA also estimates that it would take approximately 10 work hours per product to do the proposed replacement, and that the average labor rate is $60 per work hour. Required parts would cost approximately $20 per product. Based on these figures, the total cost of the proposed AD to U.S. operators is estimated to be $21,700.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12239 (66 FR 29467, May 31, 2001), and by adding a new airworthiness directive:

Britax Sell Gmbh & Co. OHG: Docket No. 2000-NE-58-AD. Supersedes AD 2001-10-13, Amendment 39-12239.

Applicability

This airworthiness directive (AD) is applicable to Britax Sell Gmbh & Co. OHG water boilers, coffee makers, and beverage makers, listed by part number (P/N) and serial number (SN) in Table 1 of this AD. These products are installed on, but not limited to, Airbus Industrie A319, A320, A330, AVRO RJ, Bombardier DHC-8-400, and Boeing Company 717, 737, 747, 757, 767, 777 airplanes.

Note 1: This AD applies to each product identified in the preceding applicability provision, regardless of whether it has been modified, altered, or repaired in the area subject to the requirements of this AD. For products that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance

Compliance with this AD is required as indicated, unless already done.

To prevent a fire in the galley compartment due to inadequate crimping of the electrical terminal contact pins, which could result in smoke in the cockpit and cabin and loss of control of the airplane, do the following:

(a) Replace wiring on temperature limiters of remote water boilers, coffee makers, water boilers, and beverage makers that are listed by P/N in Table 1 of this AD during the next repair, maintenance, or descaling of the product, during the next airplane check that allows for replacing the wiring, or within one calendar year after the effective date of this AD, whichever occurs earlier, in accordance with the applicable service bulletin (SB) specified for the appliance in Table 1 as follows:

Table 1.—Appliance P/N and Applicable SB for Wire Replacement
Appliance | Appliance P/N | SN | Tank assembly P/N | Replace wiring in accordance with SB
(1) Remote Water Boiler | 62204-001-00-029, 62204-001-031, 62204-001-037, 62204-001-043, 62204-001-047, and 62204-001-049 | 00-04-001 thru 00-07-0033 and 00-07-0038 | 62203-001-005 and 62203-001-007 | E33-4-007SB, Revision 2, dated December 4, 2000, Accomplishment Instructions 3.A. through 3.O.
(2) Coffee Maker | (i) 64755 | 00-05-0001 and 00-09-0003 | 64761-025-001 | E33-4-009SB, dated October 24, 2000, Accomplish Instructions 3.A. through 3.J.
| (ii) 64753-001-003 | 00-01-0001 thru 00-09-0079, 00-09-0100, and 00-09-0101 | 64761-025-001 | E33-4-011SB, Revision 2, dated January 31, 2001, Accomplish Instructions 3.A. through 3.J.
| (iii) 64753-201-003 | 00-05-0001, 00-05-0002, 00-07-0003, and 00-07-0004 | 64761-025-001 | E33-4-012SB, Revision 1, dated November 20, 2000, Accomplish Instructions 3.A. through 3.J.
| (iv) 64769-001-005 and 64769-001-007 | 00-04-0001 thru 00-09-0033 | 64769-025-003 | E33-4-013SB, dated October 23, 2000, Accomplish Instructions 3.A. through 3.Q.
| (v) 64790-1 | 00-08-0001 thru 00-08-0003 | 64790-393-101 | E33-4-015SB, Revision 1, dated November 15, 2000, Accomplish Instructions 3.A. through 3.L.
(3) Water Boiler | 62197-001-001 | 00-04-0001 thru 00-05-0023, 00-08-0026, thru 00-09-0052 and 00-09-0055 | 62197-015-001 | E33-4-010SB, dated October 20, 2000, Accomplish Instructions 3.A. through 3.S.
(4) Beverage Maker | (i) 64771-001-001 | 00-04-0013 thru 00-04-0039, 00-04-0043 thru 00-08-0302, 00-08-0307 thru 00-08-0346, and 00-09-0368 thru 00-09-0371 | 64771-025-005 | E33-4-014SB, Revision 1, dated November 6, 2000, Accomplishment Instructions 3.A. through 3.J.
| (ii) 64771-001-003 | 00-02-0001 thru 00-03-0005, 00-04-0007 thru 00-04-0012, 00-04-0042 thru 00-04-0042, 00-04-0053 thru 00-04-0057, 00-05-0087 thru 00-05-0094, 00-07-0135 thru 00-07-0138, 00-08-0303 thru 00-08-306, 00-08-0347 thru 00-08-0354, and 00-09-0365 thru 00-09-0367 | 64771-025-001 | E33-4-016SB, Revision 1, dated November 6, 2000, Accomplishment Instructions 3.A. through 3.J.

Alternative Methods of Compliance

(b) An alternative method of compliance or adjustment of the compliance time that provides an acceptable level of safety may be used if approved by the Manager, Boston Aircraft Certification Office (ACO). Operators must submit their requests through an appropriate FAA Principal Maintenance Inspector, who may add comments and then send it to the Manager, Boston ACO.

Note 2: Information concerning the existence of approved alternative methods of compliance with this airworthiness directive, if any, may be obtained from the Boston ACO.

Special Flight Permits

(c) Special flight permits may be issued in accordance with §§ 21.197 and 21.199 of the Federal Aviation Regulations (14 CFR 21.197 and 21.199) to operate the aircraft to a location where the requirements of this AD can be done.

Note 3: The subject of this AD is addressed in LBA airworthiness directive 2000-379, dated November 13, 2000.

Issued in Burlington, Massachusetts, on May 30, 2002.
Mark C. Fulmer,
Acting Manager, Engine and Propeller Directorate, Aircraft Certification Service.

[FR Doc. 02-14252 Filed 6-6-02; 8:45 am]

BILLING CODE 4910-13-P